DEPARTMENT OF LABOR

Employment and Training Administration

[TA-W-60,825]

Golden Ratio Woodworks, Emigrant, MT; Notice of Revised Determination on Reconsideration

On June 11, 2007, the Department of Labor (Department) issued an Affirmative Determination Regarding Application for Reconsideration for the workers and former workers of Golden Ratio Woodworks, Emigrant, Montana (the subject firm). The Department's Notice of affirmative determination was published in the Federal Register on June 20, 2007 (72 FR 34047).

The negative determination was issued on May 1, 2007. The Department's Notice of determination was published in the Federal Register on May 17, 2007 (72 FR 27855). Workers produce massage tables, chairs, and accessories.

The negative determination was based on the Department's findings that production at the subject firm ceased to operate in January 2007, that the subject firm did not shift production abroad, and that the subject firm's major declining customers' imports did not contribute importantly to workers' separations.

In the request for reconsideration, the workers alleged that increased subject firm imports and increased foreign competition contributed to workers' separations.

On reconsideration, the Department received information that confirmed that the subject firm licensed the patents to another company to produce articles previously produced at the subject facility.

During the reconsideration investigation, the Department received new information from the company official regarding the status of the subject firm and the relationship between the subject firm and the company licensed to produce the subject firm's products (hereafter referred to as “the partner”). The subject firm did not cease to exist, but has entered into an agreement with the partner. In this relationship, the subject firm sells its products and the partner produces them under the “Golden Ratio” brand at its manufacturing facilities.

During the reconsideration investigation, the Department also received information that the subject firm separated all production workers, that production ceased absolutely, and that a significant majority of the production at the subject firm was replaced with articles produced in China.

In accordance with Section 246 the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the information obtained in the reconsideration investigation, I determine that workers of Golden Ratio Woodworks, Emigrant, Montana, qualify as adversely affected workers under Section 222 of the Trade Act of 1974, as amended.

In accordance with the provisions of the Act, I make the following certification:

All workers of Golden Ratio Woodworks, Emigrant, Montana, who became totally or partially separated from employment on or after January 23, 2006, through two years from the date of this certification, are eligible to apply for adjustment assistance under Section 223 of the Trade Act of 1974, and are eligible to apply for alternative trade adjustment assistance under Section 246 of the Trade Act of 1974.

Signed at Washington, DC, this 27th day of June 2007.
Elliott S. Kushner,
Certifying Officer, Division of Trade Adjustment Assistance.

[FR Doc. E7-12909 Filed 7-3-07; 8:45 am]

BILLING CODE 4510-FN-P